DEPARTMENT OF DEFENSE

Department of the Navy

Meeting of the Board of Advisors to the Superintendent, Naval Postgraduate School, Monterey, CA

AGENCY: Department of the Navy, DOD.

ACTION: Notice of meeting.

SUMMARY: The Board of Advisors to the Superintendent, Naval Postgraduate School, Monterey, California, will meet to elicit the advice of the board on the Navy's Postgraduate Education Program. All sessions will be open to the public.

DATES: The meeting will be held on Wednesday, February 16, and Thursday, February 17, 2000, from 8:30 a.m. to 5 p.m.

ADDRESS: The meeting will be held at the Sheraton Crystal City Hotel, Arlington, VA.

FOR FURTHER INFORMATION CONTACT: Ms. Jaye Panza, Naval Postgraduate School, Monterey, CA 93943-5000, telephone number (831) 656-2514.

SUPPLEMENTARY INFORMATION: The board examines the effectiveness with which the Navy's Postgraduate Education School is accomplishing its mission. To this end, the board will inquire into the curricula; instruction; physical equipment; administration; state of morale of the student body, faculty, and staff; fiscal affairs; and any other matters relating to the operation of the Naval Postgraduate School as the board considers pertinent.

Dated: February 1, 2000.
J.L. Roth,
Lieutenant Commander, Judge Advocate General's Corps, U.S. Navy, Federal Register Liaison Officer.

[FR Doc. 00-3104 Filed 2-9-00; 8:45 am]

BILLING CODE 3810-FF-U